DEPARTMENT OF COMMERCE

International Trade Administration

Information and Communication Technology Trade Mission to Turkey; November 28, 2016-December 1, 2016

AGENCY: International Trade Administration, Department of Commerce.

ACTION: Notice.

SUMMARY: The United States Department of Commerce, International Trade Administration (ITA), is organizing an Information and Communication Technology Trade Mission to Istanbul, Turkey and Ankara from November 28th-December 1st, 2016. The trade mission will focus on Cyber Security and e-Commerce as a sub sector.

The purpose of the mission is to introduce U.S. firms and trade associations to Turkey information and communication technology (ICT) security and critical infrastructure protection markets and to assist U.S. companies to find business partners and export their products and services. The mission will visit Istanbul and Ankara in Turkey where U.S. firms will have access to business development opportunities, participating firms will gain market insights, make industry contacts, solidify business strategies, and advance specific projects, with the goal of increasing U.S. exports of products and services to Turkey. The mission will include customized one-on-one business appointments with pre-screened potential buyers, agents, distributors and joint venture partners; meetings with state and local government officials and industry leaders; and networking events.

Schedule
Sunday, November 27 | Trade Mission Participants Arrive in Istanbul.
| Visit the city (Optional).
| Mission Welcome Meet-up.
Monday, November 28 | Welcome to Istanbul and Country Briefing (Turkey).
| One-on-One business matchmaking appointments.
| Networking Lunch.
| One-on-One business matchmaking appointments.
| Networking Reception (TBC).
Tuesday, November 29 | One-on-One business matchmaking appointments.
| Networking Lunch.
| One-on-One business matchmaking appointments.
| Travel to Ankara.
Wednesday, November 30 | Welcome to Ankara.
| One-on-One business matchmaking appointments.
| Networking Lunch.
| Site visits to Cyber Security Centers.
| Networking Reception.
Thursday, December 1 | Ministry Meetings.
| Networking Lunch.
| Ministry Meetings.
| Trade Mission Ends.

Web site: Please visit our official mission Web site for more information: http://www.export.gov/trademissions/.

Participation Requirements

All parties interested in participating in the trade mission must complete and submit an application package for consideration by the DOC. All applicants will be evaluated, on a rolling basis, on their ability to meet certain conditions and best satisfy the selection criteria as outlined below. A minimum of 15 and maximum of 20 firms and/or trade associations will be selected to participate in the mission from the applicant pool.

Fees and Expenses

After a firm or trade association has been selected to participate on the mission, a payment to the Department of Commerce in the form of a participation fee is required. The participation fee for the Business Development Mission will be $2970.63 for small or medium-sized enterprises (SME); and $3937.50 for large firms or trade associations. The fee for each additional firm representative (large firm or SME/trade organization) is $500. Expenses for travel, lodging, meals, and incidentals will be the responsibility of each mission participant. Interpreter and driver services can be arranged for additional cost. Delegation members will be able to take advantage of U.S. Embassy rates for hotel rooms.

Application

All interested firms and associations may register via the following link: http://emenuapps.ita.doc.gov/ePublic/TM/6R0R.

Exclusions

The mission fee does not include any personal travel expenses such as lodging, most meals, local ground transportation, and air transportation from the U.S. to the mission sites, between mission sites, and return to the United States. Business visas may be required. Government fees and processing expenses to obtain such visas are also not included in the mission costs. However, the U.S. Department of Commerce will provide instructions to each participant on the procedures required to obtain necessary business visas.

Timeline for Recruitment and Applications

Mission recruitment will be conducted in an open and public manner, including publication in the Federal Register, posting on the Commerce Department trade mission calendar (http://export.gov/trademissions) and other Internet Web sites, press releases to general and trade media, direct mail, notices by industry trade associations and other multiplier groups, and publicity at industry meetings, symposia, conferences, and trade shows. Recruitment for the mission will begin immediately and conclude no later than September 6, 2016. The U.S. Department of Commerce will review applications and make selection decisions on a rolling basis beginning immediately until the maximum of 20 participants is selected. Applications received after September 6, 2016 will be considered only if space and scheduling constraints permit.

Conditions for Participation

An applicant must submit a completed and signed mission application and supplemental application materials, including adequate information on the company's products and/or services primary market objectives, and goals for participation. If the Department of Commerce receives an incomplete application, the Department may reject the application, request additional information, or take the lack of information into account when evaluating the applications.

Companies must provide certification of products and/or services being manufactured or produced in the United States or if manufactured/produced outside of the United States, the product and/or service is marketed under the name of a U.S. firm and have U.S. content representing at least 51 percent of the value of the finished good or service. In the case of a trade association or trade organization, the applicant must certify that, for each company to be represented by the trade association or trade organization, the products and services the represented company seeks to export are either produced in the United States or, if not, marketed under the name of a U.S. firm and have at least fifty-one percent U.S. content.

The following criteria will be evaluated in selecting participants:

• Suitability of the company's (or in the case of a trade association/organization, represented companies') products or services to the mission goals and the markets to be visited as part of this trade mission.

• Company's (or in the case of a trade association/organization, represented companies') potential for business in each of the markets to be visited as part of this trade mission.

• Consistency of the applicant's (or in the case of a trade association/organization, represented companies') goals and objectives with the stated scope of the mission.

Referrals from political organizations and any documents containing references to partisan political activities (including political contributions) will be removed from an applicant's submission and not considered during the selection process.

FOR FURTHER INFORMATION CONTACT: Mr. Gemal Brangman, Project Officer, U.S. Department of Commerce, Washington, DC, Tel: 202-482-3773, Fax: 202-482-9000, Gemal.Brangman@trade.gov.

Frank Spector,
Acting Director, Trade Missions Program.

[FR Doc. 2015-31145 Filed 12-9-15; 8:45 am]

BILLING CODE 3510-DR-P